COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product and services to the Procurement List that will be furnished by the nonprofit agencies employing persons who are blind or have other severe disabilities, and deletes products and services previously furnished by such agencies.

DATES: Comments must be received on or before: May 20, 2018.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from the nonprofit agencies employing persons who are blind or have other severe disabilities.

The following product and services are proposed for addition to the Procurement List for production by the nonprofit agencies listed:

Product

NSN—Product Name: 6220-01-266-1651—Spotlight, .52 AMPS 28V BA15S bulb, yellow/white output, HMMWV

Mandatory Source of Supply: Cincinnati Association for the Blind and Visually Impaired, Cincinnati, OH

Mandatory for: 100% of the requirement of the Department of Defense

Contracting Activity: Defense Commissary Agency

Distribution: C-List

Services

Service Types: Furniture Design, Configuration and Installation Service Sourcing, Warehousing, Assembly and Kitting Service Tool & MRO Sourcing and Fulfillment Service

Mandatory for: USPFO Connecticut, National Guard Bureau, National Guard Armory, 360 Broad Street, Hartford, CT

Mandatory Source of Supply: Industries for the Blind, Inc., West Allis, WI

Contracting Activity: United States Property and Fiscal Office (USPFO), Connecticut National Guard, ANGB, CT

Deletions

The following products and services are proposed for deletion from the Procurement List:

Products

NSN(s)—Product Name(s):

8410-01-466-4892—Slacks, Dress, Coast Guard, Women's, Blue, 16JS

8410-01-466-4905—Slacks, Dress, Coast Guard, Women's, Blue, 12MS

8410-01-466-4906—Slacks, Dress, Coast Guard, Women's, Blue, 14MS

8410-01-466-4912—Slacks, Dress, Coast Guard, Women's, Blue, 18MR

8410-01-466-4914—Slacks, Dress, Coast Guard, Women's, Blue, 8ML

8410-01-466-4915—Slacks, Dress, Coast Guard, Women's, Blue, 12ML

8410-01-466-4926—Slacks, Dress, Coast Guard, Women's, Blue, 14WS

8410-01-466-4930—Slacks, Dress, Coast Guard, Women's, Blue, 12WR

8410-01-466-4935—Slacks, Dress, Coast Guard, Women's, Blue, 12WL

8410-01-466-6326—Slacks, Dress, Coast Guard, Women's, Blue, 4JR

8410-01-466-6332—Slacks, Dress, Coast Guard, Women's, Blue, 6JS

8410-01-466-6485—Slacks, Dress, Coast Guard, Women's, Blue, 8JL

8410-01-466-6486—Slacks, Dress, Coast Guard, Women's, Blue, 4MS

8410-01-466-8155—Slacks, Dress, Coast Guard, Women's, Blue, 10JS

8410-01-466-8157—Slacks, Dress, Coast Guard, Women's, Blue, 12JS

8410-01-466-8161—Slacks, Dress, Coast Guard, Women's, Blue, 18JS

8410-01-466-8172—Slacks, Dress, Coast Guard, Women's, Blue, 18JL

8410-01-466-8176—Slacks, Dress, Coast Guard, Women's, Blue, 16MS

8410-01-466-8195—Slacks, Dress, Coast Guard, Women's, Blue, 18ML

8410-01-466-8197—Slacks, Dress, Coast Guard, Women's, Blue, 20ML

8410-01-466-8199—Slacks, Dress, Coast Guard, Women's, Blue, 16WS

8410-01-466-8203—Slacks, Dress, Coast Guard, Women's, Blue, 18WL

8410-01-466-8207—Slacks, Dress, Coast Guard, Women's, Blue, 20WL

8410-01-466-8211—Slacks, Dress, Coast Guard, Women's, Blue, 22WL

Mandatory Source of Supply: VGS, Inc., Cleveland, OH

Contracting Activity: Defense Logistics Agency Troop Support

Services

Service Type: Food Service and Food Service Attendant

Mandatory for: Fort Hood: Postwide, Fort Hood, TX

Mandatory Source of Supply: Unknown

Contracting Activity: Dept of the Army, W40M NORTHEREGION Contract Ofc

Service Type: Janitorial/Custodial Service

Mandatory for: Naval & Marine Corps Readiness Reserve Center, Providence, RI

Mandatory Source of Supply: The Fogarty Center, North Providence, RI

Contracting Activity: Dept of the Navy, Navy Crane Center

Service Type: Janitorial/Custodial Service

Mandatory for: Des Moines International Airport: Air National Guard Base Moines, IA

Mandatory Source of Supply: Goodwill Solutions, Inc., Johnston, IA

Contracting Activity: Dept of the Air Force, FA7014 AFDW PK

Service Type: Repair of Strap, Air Cargo (1670-00-725-1437) Service

Mandatory for: Robins Air Force Base, Robins AFB, GA

Mandatory Source of Supply: Houston County Association for Exceptional Citizens, Inc., Warner Robins, GA

Contracting Activity: Dept of the Air Force, FA8501 AFSC PZIO

Amy Jensen,
Director, Business Operations.

[FR Doc. 2018-08320 Filed 4-19-18; 8:45 am]

BILLING CODE 6353-01-P